ENVIRONMENTAL PROTECTION AGENCY

[FRL-8217-3]

National Advisory Council for Environmental Policy and Technology

AGENCY: Environmental Protection Agency (EPA).

ACTION: Notice of meeting.

SUMMARY: Under the Federal Advisory Committee Act, Pub. L. 92-463, EPA gives notice of a meeting of the National Advisory Council for Environmental Policy and Technology (NACEPT). NACEPT provides advice to the EPA Administrator on a broad range of environmental policy, technology, and management issues. The Council is a panel of individuals who represent diverse interests from academia, industry, non-governmental organizations, and local, state, and Tribal governments. The Administrator asked NACEPT to address sustainable water infrastructure, environmental stewardship/cooperative conservation, and energy and the environment. The purpose of this meeting is to learn more about these topics from a regional perspective. A copy of the agenda for the meeting will be posted at http://www.epa.gov/ocem/nacept/cal-nacept.htm.

DATES: NACEPT will hold a two day open meeting on Thursday, September 28, 2006, from 8:30 a.m. to 1:45 p.m. and Friday, September 29, 2006, from 8 a.m. to 2 p.m.

ADDRESSES: The meeting will be held at the Four Points by Sheraton Denver Cherry Creek Hotel, 600 South Colorado Boulevard, Denver, Colorado 80246. The meeting is open to the public, with limited seating on a first-come, first-served basis.

FOR FURTHER INFORMATION CONTACT: Sonia Altieri, Designated Federal Officer, altieri.sonia@epa.gov, (202) 233-0061, U.S. EPA, Office of Cooperative Environmental Management (1601E), 1200 Pennsylvania, Avenue NW., Washington, DC 20460.

SUPPLEMENTARY INFORMATION: Requests to make oral comments or to provide written comments to the Council should be sent to Sonia Altieri, Designated Federal Officer, at the contact information above. The public is welcome to attend all portions of the meeting.

Meeting Access: For information on access or services for individuals with disabilities, please contact Sonia Altieri at 202-233-0061 or altieri.sonia@epa.gov. To request accommodation of a disability, please contact Sonia Altieri, preferably at least 10 days prior to the meeting, to give EPA as much time as possible to process your request.

Dated: August 29, 2006.
Sonia Altieri,
Designated Federal Officer.

[FR Doc. E6-14709 Filed 9-5-06; 8:45 am]

BILLING CODE 6560-50-P